DEPARTMENT OF HOMELAND SECURITY

[Docket No. DHS-2017-0016]

Committee Name: Homeland Security Academic Advisory Council

AGENCY: Department of Homeland Security.

ACTION: Committee Management; Notice of Federal Advisory Committee meeting.

SUMMARY: The Homeland Security Academic Advisory Council will meet on June 5, 2017 in Washington, DC to review and discuss draft recommendations for the Department of Homeland Security. The meeting will be open to the public.

DATES: The Homeland Security Academic Advisory Council will meet on Monday, June 5, 2017, from 10:00 a.m. to 3:15 p.m. Please note that the meeting may close early if the Council has completed its business.

ADDRESSES: The meeting will be held at the Woodrow Wilson International Center (Wilson Center) for Scholars, 1300 Pennsylvania Ave NW., 6th Floor, Moynihan Board Room, Washington, DC 20004. All visitors to the Wilson Center must bring a Government-issued photo ID.

For information on facilities or services for individuals with disabilities or to request special assistance at the meeting, send an email to AcademicEngagement@hq.dhs.gov or contact Lindsay Burton at 202-447-4686 as soon as possible.

To facilitate public participation, we are inviting public comment on the issues to be considered by the Council prior to the adoption of the recommendations as listed in the SUPPLEMENTARY INFORMATION section below. Comments must be submitted in writing no later than Monday, May 29, 2017, must include DHS-2017-0016 as the identification number, and may be submitted using one of the following methods:

• Federal eRulemaking Portal: http://www.regulations.gov. Follow the instructions for submitting comments.

• Email: AcademicEngagement@hq.dhs.gov. Include the docket number in the subject line of the message.

• Fax: 202-282-1044. Include “ATTN: Office of Academic Engagement” on the cover page of the document.

• Mail: Academic Engagement; Office of Academic Engagement/Mailstop 0385; Department of Homeland Security; 245 Murray Lane SW.; Washington, DC 20528-0440.

Instructions: All submissions received must include the words “Department of Homeland Security” and the docket number DHS-2017-0016 for this action. Comments received will be posted without alteration at http://www.regulations.gov, including any personal information provided.

Docket: For access to the docket, to read background documents or comments received by the Homeland Security Academic Advisory Council, go to http://www.regulations.gov and search for “Homeland Security Academic Advisory Council” then select the notice dated May 17, 2017.

One thirty-minute public comment period will be held during the meeting on June 5, 2017 after the conclusion of the presentation of draft recommendations, but before the Council deliberates. Speakers will be requested to limit their comments to three minutes. Contact the Office of Academic Engagement as indicated below to register as a speaker.

FOR FURTHER INFORMATION CONTACT: Lindsay Burton, Office of Academic Engagement/Mailstop 0385; Department of Homeland Security; 245 Murray Lane SW.; Washington, DC 20528-0440, email: AcademicEngagement@hq.dhs.gov, tel: 202-447-4686 and fax: 202-282-1044.

SUPPLEMENTARY INFORMATION: Notice of this meeting is given under the Federal Advisory Committee Act, 5 U.S.C. appendix. The Homeland Security Academic Advisory Council provides advice and recommendations to the Secretary and senior leadership on matters relating to academic research and faculty exchange; campus resilience; countering violent extremism; cybersecurity; homeland security academic programs; international students; and student and recent graduate recruitment.

Agenda: The Council's Academic Subcommittee on Countering Violent Extremism will provide a report and may present draft recommendations for action in response to the taskings issued by the Department. DHS senior leadership will provide an update on the Department's priorities as well as its recent initiatives with the academic community. The meeting materials will be posted to the Council Web site at: http://www.dhs.gov/homeland-security-academic-advisory-council-hsaac on or before Friday, June 1, 2017.

Responsible DHS Official: Trent Frazier, AcademicEngagement@hq.dhs.gov, 202-447-4686.

Dated: May 10, 2017.
Trent Frazier,
Executive Director for Academic Engagement.

[FR Doc. 2017-09962 Filed 5-16-17; 8:45 am]

BILLING CODE 9110-9B-P